DEPARTMENT OF ENERGY

Western Area Power Administration

Notice of Cancellation of Environmental Impact Statement for the Proposed Interconnection of the Buffalo Ridge III Wind Project, Brookings and Deuel Counties, SD (DOE/EIS-0437)

AGENCY: Western Area Power Administration, DOE.

ACTION: Notice of Cancellation of Environmental Impact Statement.

SUMMARY: The U.S. Department of Energy (DOE), Western Area Power Administration (Western) is issuing this notice to advise the public that it is cancelling the preparation of an environmental impact statement (EIS) under the National Environmental Policy Act (NEPA) on an interconnection request by Heartland Wind, LLC (Heartland), a wholly owned subsidiary of Iberdrola Renewables, Inc.

DATES: This cancellation is effective on August 29, 2012.

FOR FURTHER INFORMATION CONTACT: For additional information on the cancellation of this EIS process, contact Matt Marsh, NEPA Document Manager, Upper Great Plains Regional Office, Western Area Power Administration, P.O. Box 35800, Billings, MT 59107-5800, email MMarsh@wapa.gov, telephone (406) 255-2811. For general information on DOE's NEPA review process, contact Carol M. Borgstrom, Director of NEPA Policy and Compliance, GC-54, Department of Energy, 1000 Independence Avenue SW., Washington, DC 20585-0119, telephone (202) 586-4600 or (800) 472-2756, facsimile (202) 586-7031.

SUPPLEMENTARY INFORMATION: Heartland proposed to design, construct, operate, and maintain a 170-megawatt Buffalo Ridge III Wind Project (Project) in Brookings and Deuel counties, South Dakota, and interconnect that Project with Western's transmission system. Heartland's interconnection request caused Western to initiate a NEPA review of its proposal to allow the interconnection. Western published a Notice of Intent for the EIS in the Federal Register on November 27, 2009 (74 FR 62298), and started the EIS process. A public scoping meeting was held subsequent to the Notice of Intent, but a Draft EIS was not produced because Heartland decided to suspend further action on its proposed Project. Heartland notified Western of its decision, and Western is now terminating the NEPA review process on its interconnection proposal and Heartland's proposed Project. Heartland could decide to reinitiate the proposed Project at some future date. In that event Western would issue a new Notice of Intent, and would start a new NEPA process.

The DOE's Acting General Counsel provided a “Restatement of Delegations of Environmental Impact Statement Authorities” to Western's Administrator in a November 16, 2011, memorandum. Under the authority granted by that memorandum, I have terminated the NEPA process for Heartland's proposed Buffalo Ridge III Wind Project with the publication of this notice.

Dated: August 17, 2012.
Anthony H. Montoya,
Acting Administrator.

[FR Doc. 2012-21302 Filed 8-28-12; 8:45 am]

BILLING CODE 6450-01-P